ENVIRONMENTAL PROTECTION AGENCY

[EPA-HQ-OPP-2025-0519; FRL-12871-01-OCSPP]

Pesticide Registration Maintenance Fee; Requested and Proposed Cancellations of Certain Pesticide Registrations

AGENCY: Environmental Protection Agency (EPA).

ACTION: Notice.

SUMMARY: Pursuant to the Federal Insecticide, Fungicide, and Rodenticide Act (FIFRA), the Environmental Protection Agency (EPA or Agency) is issuing this notice of receipt of requests by registrants to voluntarily cancel the pesticide registrations identified in Unit II. The registrants submitted their requests as part of their response to a registration maintenance fee payment notice for 2025. EPA intends to grant these requests to cancel at the close of the comment period unless the Agency receives substantive comments within the comment period that would merit its further review of the requests to cancel, or unless the registrants withdraw their requests. If these requests to cancel are granted, EPA will issue an order in the Federal Register cancelling the listed product registrations, after which any sale, distribution, or use of products listed in this notice will be permitted after the registrations have been cancelled only if such sale, distribution, or use is consistent with the terms as described in the final order. In addition, as a result of the registrants' non-response or non-payment of the 2025 fees, EPA is issuing this notice of intent to cancel the pesticide product registrations identified in Unit III. Unless the Agency receives prompt payment of maintenance fees due for the registrations listed in Unit III., the Agency will issue an order in the Federal Register cancelling the listed registrations for which inadequate or no payment has been received.

DATES: Comments and withdrawal requests must be received on or before September 4, 2025.

ADDRESSES: Submit your comments, identified by docket identification (ID) number EPA-HQ-OPP-2025-0519, through https://www.regulations.gov. Follow the online instructions for submitting comments. Do not submit electronically any information you consider to be Confidential Business Information (CBI) or other information whose disclosure is restricted by statute. Additional instructions on commenting and visiting the docket, along with more information about dockets generally, is available at https://www.epa.gov/dockets.

Submit written withdrawal request by mail to: Registration Division (7505M), Office of Pesticide Programs, Environmental Protection Agency, 1200 Pennsylvania Ave. NW, Washington, DC 20460-0001. ATTN: Jennifer Drobish.

FOR FURTHER INFORMATION CONTACT: Jennifer Drobish, Registration Division (7505M), Office of Pesticide Programs, Environmental Protection Agency, 1200 Pennsylvania Ave. NW, Washington, DC 20460-0001; telephone number: (202) 566-2642; email address: drobish.jennifer@epa.gov.

SUPPLEMENTARY INFORMATION:

I. Executive Summary

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What action is the Agency taking?

This document announces receipt by the Agency of requests from registrants to cancel the pesticide products listed in Table 1 of Unit II. that are registered under FIFRA section 3 (7 U.S.C. 136a) or section 24(c) (7 U.S.C. 136v(c)). Unless the Agency determines that there are substantive comments that warrant further review of the requests or the registrants withdraw their requests, EPA intends to issue an order in the Federal Register canceling all the registrations.

In addition, this document announces the Agency's intent to cancel the pesticide product registrations listed in Table 3 of Unit III that are registered under FIFRA section 3 (7 U.S.C. 136a) or section 24(c) (7 U.S.C. 136v(c)). EPA intends to cancel these registrations as a result of registrants' non-payment of the 2025 pesticide registration maintenance fees. Since registrations for which the fee is not paid are subject to cancellation by order and without a hearing, EPA is not seeking public comment for the cancellation of the products listed in Table 3 of Unit III.

C. What is EPA's authority for taking this action?

FIFRA section 6(f)(1) (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, EPA may approve the request.

FIFRA section 4(i)(5) (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing pursuant to FIFRA section 4(i)(1)(M) (7 U.S.C. 136a-1(i)(1)(M)). Under FIFRA, EPA may reduce or waive maintenance fees for minor agricultural use pesticides when it is determined that the fee would be likely to cause significant impact on the availability of the pesticide for the use.

D. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

III. Requests To Voluntarily Cancel Certain Registrations

The Agency received requests from registrants to cancel the pesticide products registered under FIFRA section 3 (7 U.S.C. 136a) or section 24(c) (7 U.S.C. 136v(c)) that are identified in Table 1 of Unit II. These registrations are listed in sequence by registration number (or company number and 24(c) number) in Table 1 of Unit II. Pursuant to FIFRA Section 6(f) (7 U.S.C. 136d(f)), unless the Agency determines that there are substantive comments that warrant further review of the requests or the registrants withdraw their requests, EPA intends to issue an order in the Federal Register canceling all the registrations listed in Table 1 of Unit II.

Table 1—Registrations With Pending Voluntary Requests for Cancellation
Registration No. | Company No. | Product name | Active ingredient
100-769 | 100 | MEDALLION FUNGICIDE | Fludioxonil (071503/131341-86-1)—(50%).
100-960 | 100 | FLAGSHIP 0.22G | Thiamethoxam (060109/153719-23-4)—(.22%).
100-1597 | 100 | Clariva Complete Beans 500 | Fludioxonil (071503/131341-86-1)—(.63%), Metalaxyl-M (113502/70630-17-0)—(1.88%), Pasteuria nishizawae Pn1 (016455/)—(5.07%), SEDAXANE (129223/874967-67-6)—(.63%), Thiamethoxam (060109/153719-23-4)—(12.5%).
239-2716 | 239 | ORTHO GROUNDCLEAR VEGETATION KILLER RTU | Glyphosate, isopropylamine salt (103601/38641-94-0)—(5%), Imazapyr, isopropylamine salt (128829/81510-83-0)—(.08%).
239-2723 | 239 | NS 515 | Diquat dibromide (032201/85-00-7)—(.1%), Glyphosate, isopropylamine salt (103601/38641-94-0)—(2%).
239-2724 | 239 | NS 516 | Diquat dibromide (032201/85-00-7)—(.73%), Glyphosate, isopropylamine salt (103601/38641-94-0)—(18%).
239-2725 | 239 | NSR 001 | Diquat dibromide (032201/85-00-7)—(.6%), Glyphosate, isopropylamine salt (103601/38641-94-0)—(13%), Imazapic-ammonium (128943/115136-53-3)—(.35%).
239-2737 | 239 | GROUNDCLEAR S RTU | Glyphosate, isopropylamine salt (103601/38641-94-0)—(.14%), Imazapyr, isopropylamine salt (128829/81510-83-0)—(.02%).
777-131 | 777 | Cousteau | Hypochlorous Acid (129054/7790-92-3)—(.017%).
777-138 | 777 | Deadpool | Alkyl* dimethyl benzyl ammonium chloride *(50%C14, 40%C12, 10%C16) (069105/68424-85-1)—(3.711%), Citric acid (021801/77-92-9)—(5%), L-Lactic acid (128929/79-33-4)—(9.992%).
2724-829 | 2724 | RF2187 CDSO PLUS II FOR DOGS | Etofenprox (128965/80844-07-1)—(50%), MGK 264 (057001/113-48-4)—(.91%), Piperonyl butoxide (067501/51-03-6)—(9.1%), Pyriproxyfen (129032/95737-68-1)—(.45%), S-Methoprene (105402/65733-16-6)—(.23%).
5383-144 | 5383 | MERGAL BIT20W | 1,2-Benzisothiazolin-3-one (098901/2634-33-5)—(19.18%).
5481-456 | 5481 | METAM 376 | Metam-sodium (039003/137-42-8)—(38%).
5481-458 | 5481 | METAM 376 | Metam-sodium (039003/137-42-8)—(38%).
5481-466 | 5481 | VAPAM SOIL FUMIGANT SOLUTION FOR ALL CROPS | Metam-sodium (039003/137-42-8)—(32.7%).
5481-474 | 5481 | SODCURE 376 | Metam-sodium (039003/137-42-8)—(38%).
5481-482 | 5481 | FLY KILLER D | Naled (034401/300-76-5)—(36%).
5481-503 | 5481 | AMBUSH 25W INSECTICIDE WATER SOLUBLE PACK | Permethrin (109701/52645-53-1)—(25%).
5481-617 | 5481 | EQUUS DF | Chlorothalonil (081901/1897-45-6)—(82.5%).
5481-618 | 5481 | EQUUS 500 ZN | Chlorothalonil (081901/1897-45-6)—(38.5%).
5905-486 | 5905 | COPPER-Z 4/4 ALGICIDE/HERBICIDE | Copper sulfate pentahydrate (024401/7758-99-8)—(15.9%).
9198-158 | 9198 | THE ANDERSONS FERTILIZER PLUS 0.058% BIFENTHRIN | Bifenthrin (128825/82657-04-3)—(.058%).
9198-237 | 9198 | THE ANDERSONS WEED & GRASS PREVENTER WITH 5% TRAMMEL HERBICIDE (DISPERSIBLE GRA | Trifluralin (036101/1582-09-8)—(5%).
10088-107 | 10088 | CONTACT HERBICIDE #2 CONCENTRATE GRASS AND WEED KILLER | Glyphosate, isopropylamine salt (103601/38641-94-0)—(18%).
10088-108 | 10088 | CONTACT HERBICIDE #1 RTU | Glyphosate, isopropylamine salt (103601/38641-94-0)—(.96%).
10324-156 | 10324 | MAQUAT 512-NHQ | 1-Decanaminium, N-decyl-N, N-dimethyl-, chloride (069149/7173-51-5)—(20.28%), Alkyl* dimethyl benzyl ammonium chloride *(50%C14, 40%C12, 10%C16) (069105/68424-85-1)—(13.52%).
10324-230 | 10324 | Maguard 1522 | Ethaneperoxoic acid (063201/79-21-0)—(15%), Hydrogen peroxide (000595/7722-84-1)—(22%).
11678-55 | 11678 | MAGNATE TECHNICAL | Imazalil (111901/35554-44-0)—(98.5%).
34704-870 | 34704 | CHLOROTHALONIL 6 | Chlorothalonil (081901/1897-45-6)—(54%).
34704-874 | 34704 | APPLAUSE DF FUNGICIDE | Chlorothalonil (081901/1897-45-6)—(90%).
34704-878 | 34704 | CHLOROTHALONIL 90DF | Chlorothalonil (081901/1897-45-6)—(90%).
34704-914 | 34704 | CHLOROTHALONIL 825 AGRICULTURAL FUNGICIDE | Chlorothalonil (081901/1897-45-6)—(82.5%).
42750-350 | 42750 | ST Pre-Mix #9 | Azoxystrobin (128810/131860-33-8)—(1.18%), Metalaxyl (113501/57837-19-1)—(8.83%), Thiabendazole (060101/148-79-8)—(2.94%), Thiophanate-methyl (102001/23564-05-8)—(2.35%).
42750-353 | 42750 | ST Pre-Mix #11 | Fludioxonil (071503/131341-86-1)—(.81%), Imidacloprid (129099/138261-41-3)—(20.17%), Metalaxyl (113501/57837-19-1)—(5.05%), Thiophanate-methyl (102001/23564-05-8)—(3.28%).
42750-379 | 42750 | ST Pre-Mix #20 | Azoxystrobin (128810/131860-33-8)—(.71%), Imidacloprid (129099/138261-41-3)—(21.14%), Metalaxyl (113501/57837-19-1)—(5.28%), Thiabendazole (060101/148-79-8)—(1.76%), Thiophanate-methyl (102001/23564-05-8)—(1.4%).
63838-28 | 63838 | ReducX | Caprylic acid (128919/124-07-2)—(5.1%), Ethaneperoxoic acid (063201/79-21-0)—(8.4%), Hydrogen peroxide (000595/7722-84-1)—(7.6%).
63838-34 | 63838 | EP-D50 | 1-Decanaminium, N-decyl-N, N-dimethyl-, chloride (069149/7173-51-5)—(50%).
66222-20 | 66222 | MAGNATE 500 EC | Imazalil (111901/35554-44-0)—(44.5%).
66222-100 | 66222 | MAGNATE 75 SG | Imazalil (111901/35554-44-0)—(74.25%).
66222-138 | 66222 | ORYZALIN 4 AS | Oryzalin (104201/19044-88-3)—(41%).
70506-45 | 70506 | XL 2G | Benfluralin (084301/1861-40-1)—(1%), Oryzalin (104201/19044-88-3)—(1%).
70506-56 | 70506 | XL 2GR | Benfluralin (084301/1861-40-1)—(1%), Oryzalin (104201/19044-88-3)—(1%).
81964-21 | 81964 | CHLORPYRIFOS 61.5% MUP | Chlorpyrifos (059101/2921-88-2)—(61.5%).
84229-20 | 84229 | CHLORPYRIFOS 4 EC | Chlorpyrifos (059101/2921-88-2)—(44.9%).
89442-6 | 89442 | CHLOROTHALONIL 82.5DF SELECT | Chlorothalonil (081901/1897-45-6)—(82.5%).
89442-9 | 89442 | CHLOROTHALONIL 720 SELECT | Chlorothalonil (081901/1897-45-6)—(54%).
92617-1 | 92617 | COPPER TREAT 120 READY TO USE | Copper naphthenate (023102/1338-02-9)—(21.6%).
AK220001 | 67690 | SONAR GENESIS | Fluridone (112900/59756-60-4)—(6.3%).
AR130003 | 279 | SPARTAN CHARGE HERBICIDE | Sulfentrazone (129081/122836-35-5)—(31.77%), Carfentrazone-ethyl (128712/128639-02-1)—(3.53%).
AR160001 | 8033 | CONFIRM 2F INSECTICIDE | Tebufenozide (129026/112410-23-8)—(23%).
AZ000006 | 400 | COMITE AGRICULTURAL MITICIDE | Propargite (097601/2312-35-8)—(73.6%).
AZ080016 | 400 | TERRAMASTER 4EC | Etridiazole (084701/2593-15-9)—(44.3%).
CA020017 | 66330 | CAPTAN 50 WETTABLE POWDER | Captan (081301/133-06-2)—(48.9%).
CA040013 | 400 | COMITE | Propargite (097601/2312-35-8)—(73.6%).
CA130012 | 66222 | DIREX 4L | Diuron (035505/330-54-1)—(40.7%).
CA820083 | 400 | COMITE AGRICULTURAL MITICIDE | Propargite (097601/2312-35-8)—(73.6%).
CA830024 | 400 | COMITE AGRICULTURAL MITICIDE | Propargite (097601/2312-35-8)—(73.6%).
CA940031 | 400 | COMITE AGRICULTURAL MITICIDE | Propargite (097601/2312-35-8)—(73.6%).
CO080002 | 400 | COMITE II | Propargite (097601/2312-35-8)—(69.6%).
CO110003 | 59639 | VALOR HERBICIDE | Flumioxazin (129034/103361-09-7)—(51%).
DE170002 | 279 | DUPONT SENTRALLAS HERBICIDE | Fluroxypyr 1-methylheptyl ester (128968/81406-37-3)—(21.9%), Thifensulfuron (128845/79277-27-3)—(3%).
DE220001 | 66330 | Audit 1:1 | Tribenuron-methyl (128887/101200-48-0)—(25%), Thifensulfuron (128845/79277-27-3)—(25%).
FL030011 | 400 | TERRAMASTER 4EC | Etridiazole (084701/2593-15-9)—(44.3%).
GA790021 | 400 | VITAVAX-200 FLOWABLE FUNGICIDE (VITAVAX WITH THIRAM) | Thiram (079801/137-26-8)—(17%), Carboxin (090201/5234-68-4)—(17%).
ID060012 | 66222 | RIMON 0.83 EC | Novaluron (124002/116714-46-6)—(9.3%).
ID110008 | 66330 | DIMETHOATE 4E | Dimethoate (035001/60-51-5)—(43.5%).
ID110009 | 59639 | VALOR HERBICIDE | Flumioxazin (129034/103361-09-7)—(51%).
ID180006 | 7173 | ROZOL VOLE BAIT | Chlorophacinone (067707/3691-35-8)—(.005%).
ID190004 | 7173 | ROZOL VOLE BAIT | Chlorophacinone (067707/3691-35-8)—(.005%).
KY080004 | 400 | TERRAZOLE 4EC | Etridiazole (084701/2593-15-9)—(44.3%).
KY240001 | 10163 | M-PEDE INSECTICIDE/MITICIDE/FUNGICIDE | Potassium laurate (079021/67701-09-1)—(49%).
LA130009 | 81880 | PERMIT PLUS | Thifensulfuron (128845/79277-27-3)—(8%), Halosulfuron-methyl (128721/100784-20-1)—(67%).
LA130010 | 81880 | GWN-3061 | Halosulfuron-methyl (128721/100784-20-1)—(75%).
LA130011 | 8033 | CONFIRM 2F INSECTICIDE | Tebufenozide (129026/112410-23-8)—(23%).
LA210003 | 5481 | ENVOKE HERBICIDE | 2-Pyridinesulfonamide, N-[[(4,6-dimethoxy-2-pyrimidinyl) amino] carbonyl]-3-(2,2,2-trifluoroethoxy)-, monosodium salt, monohydrate (119009/290332-10-4)—(75%).
MD180001 | 279 | DUPONT SENTRALLAS HERBICIDE | Thifensulfuron (128845/79277-27-3)—(3%), Fluroxypyr 1-methyleptyl ester (128968/81406-37-3)—(21.9%).
MI220001 | 400 | PROCURE 480SC | Triflumizole (128879/68694-11-1)—(42.14%).
MN050003 | 400 | TERRAZOLE 4EC | Etridiazole (084701/2593-15-9)—(44.3%).
MO050003 | 279 | SPARTAN 4F | Sulfentrazone (129081/122836-35-5)—(39.6%).
MS030004 | 400 | TERRAZOLE 4EC | Etridiazole (084701/2593-15-9)—(44.3%).
MT180002 | 59639 | VALOR HERBICIDE | Flumioxazin (129034/103361-09-7)—(51%).
NC140002 | 400 | BEAN GUARD/ALLEGIANCE | Captan (081301/133-06-2)—(24.45%), Carboxin (090201/5234-68-4)—(12.5%), Metalaxyl (113501/57837-19-1)—(3.75%).
NC150004 | 59639 | V-10233 HERBICIDE | Flumioxazin (129034/103361-09-7)—(33.5%), Pyroxasulfone (090099/447399-55-5)—(42.5%).
NV880007 | 400 | COMITE AGRICULTURAL MITICIDE | Propargite (097601/2312-35-8)—(73.6%).
NY120006 | 67690 | SP 1908 AQUATIC HERBICIDE | Fluridone (112900/59756-60-4)—(6.3%).
NY120017 | 67690 | SONAR SRP | Fluridone (112900/59756-60-4)—(5%).
NY130001 | 67690 | SONAR X | Fluridone (112900/59756-60-4)—(5%).
NY200005 | 400 | PROCURE 480SC | Triflumizole (128879/68694-11-1)—(42.14%).
OH210001 | 400 | PROCURE 480SC | Triflumizole (128879/68694-11-1)—(42.14%).
OH950001 | 66330 | CAPTAN 50 WETTABLE POWDER | Captan (081301/133-06-2)—(48.9%).
OK040004 | 400 | TERRAMASTER 4EC | Etridiazole (084701/2593-15-9)—(44.3%).
OK110003 | 59639 | VALOR HERBICIDE | Flumioxazin (129034/103361-09-7)—(51%).
OR010003 | 5481 | K-SALT FRUIT FIX 800 | Potassium 1-naphthaleneacetate (056003/15165-79-4)—(24.2%).
OR080028 | 400 | VITAVAX FLOWABLE FUNGICIDE | Carboxin (090201/5234-68-4)—(34%).
OR150008 | 279 | SPARTAN 4F | Sulfentrazone (129081/122836-35-5)—(39.6%).
OR150009 | 8033 | TOPSIN M WSB | Thiophanate-methyl (102001/23564-05-8)—(70%).
OR190003 | 400 | VITAFLO 280 | Thiram (079801/137-26-8)—(13.25%), Carboxin (090201/5234-68-4)—(15.59%).
OR190010 | 100 | APRON XL LS | Metalaxyl-M (113502/70630-17-0)—(33.3%).
OR190012 | 400 | COMITE | Propargite (097601/2312-35-8)—(73.6%).
OR190013 | 100 | NORTHSTAR HERBICIDE | Primisulfuron-methyl (128973/86209-51-0)—(7.5%), Dicamba, sodium salt (029806/1982-69-0)—(43.9%).
OR190015 | 400 | ACRAMITE-4SC | Bifenazate (000586/149877-41-8)—(43.2%).
OR190016 | 400 | COMITE | Propargite (097601/2312-35-8)—(73.6%).
OR190017 | 400 | COMITE | Propargite (097601/2312-35-8)—(73.6%).
OR190018 | 400 | ACRAMITE-4SC | Bifenazate (000586/149877-41-8)—(43.2%).
OR200010 | 400 | COMITE | Propargite (097601/2312-35-8)—(73.6%).
PA030005 | 400 | TERRAMASTER 4EC | Etridiazole (084701/2593-15-9)—(44.3%).
PA200005 | 400 | PROCURE 480SC | Triflumizole (128879/68694-11-1)—(42.14%).
PA990004 | 66330 | CAPTAN 50 WETTABLE POWDER | Captan (081301/133-06-2)—(48.9%).
TN080011 | 400 | TERRAMASTER 4EC | Etridiazole (084701/2593-15-9)—(44.3%).
UT190001 | 91234 | AQUESTA 4 F | Sulfentrazone (129081/122836-35-5)—(39.6%).
VA030005 | 400 | TERRAMASTER 4EC | Etridiazole (084701/2593-15-9)—(44.3%).
VA170002 | 279 | DUPONT SENTRALLAS HERBICIDE | Thifensulfuron (128845/79277-27-3)—(3%), Fluroxypyr 1-methyleptyl ester (128968/81406-37-3)—(21.9%).
VT170002 | 91865 | GH MPMT | Potassium laurate (079021/67701-09-1)—(49%).
WA070008 | 400 | ACRAMITE-4SC | Bifenazate (000586/149877-41-8)—(43.2%).
WA150003 | 400 | ACRAMITE-4SC | Bifenazate (000586/149877-41-8)—(43.2%).
WA190001 | 66222 | BRAVO 720 | Chlorothalonil (081901/1897-45-6)—(54%).
WA190002 | 66222 | FULFILL INSECTICIDE | Pymetrozine (101103/123312-89-0)—(50%).
WA190003 | 66222 | FULFILL | Pymetrozine (101103/123312-89-0)—(50%).
WI180003 | 66222 | BRAVO 825 AGRICULTURAL FUNGICIDE | Chlorothalonil (081901/1897-45-6)—(82.5%).
WI180004 | 66222 | BRAVO 720 | Chlorothalonil (081901/1897-45-6)—(54%).
WI180005 | 66222 | BRAVO ZN | Chlorothalonil (081901/1897-45-6)—(38.5%).
WI180006 | 66222 | BRAVO 720 | Chlorothalonil (081901/1897-45-6)—(54%).
WY120001 | 59639 | VALOR HERBICIDE | Flumioxazin (129034/103361-09-7)—(51%).
WY190001 | 400 | ACRAMITE-4SC | Bifenazate (000586/149877-41-8)—(43.2%).

Table 2 of Unit II. includes the names and addresses of record for all registrants of the products in Table 1 of Unit II., in sequence by EPA company number. This number corresponds to the first part of the EPA registration numbers of the products listed in this unit.

Table 2—Registrants Requesting Voluntary Cancellation
Company No. | Company name and address
100 | SYNGENTA CROP PROTECTION, LLC, P.O. BOX 18300, GREENSBORO, NC 27419-8300.
228 | NUFARM AMERICAS, INC., 4000 AERIAL CENTER PKWY., SUITE 101, MORRISVILLE, NC 27560.
239 | THE SCOTTS COMPANY, 14111 SCOTTSLAWN ROAD, MARYSVILLE, OH 43041.
279 | FMC CORPORATION, 2929 WALNUT STREET, PHILADELPHIA, PA 19104.
400 | MACDERMID AGRICULTURAL SOLUTIONS, INC./UPL NA INC., 630 FREEDOM BUSINESS CENTER, SUITE 402, KING OF PRUSSIA, PA 19406.
777 | RECKITT BENCKISER LLC., 399 INTERPACE PARKWAY, PARSIPPANY, NJ 07054-0225.
5383 | TROY CHEMICAL CORPORATION, 8 VREELAND ROAD, FLORHAM PARK, NJ 07932.
5481 | AMVAC CHEMICAL CORPORATION, 4695 MACARTHUR COURT, SUITE 1200, NEWPORT BEACH, CA 92660-1706.
5905 | HELENA AGRI-ENTERPRISES, LLC, D/B/A HELENA CHEMICAL COMP, L225 SCHILLING BLVD., SUITE 300, COLLIERVILLE, TN 38017.
7173 | LIPHATECH, INC., 3600 W. ELM STREET, MILWAUKEE, WI 53209.
8033 | NISSO AMERICA INC., 379 THORNALL STREET, 5TH FLOOR, EDISON, NJ 08837.
9198 | THE ANDERSONS, INC., P.O. BOX 119, MAUMEE, OH 43537.
10163 | GOWAN COMPANY, LLC, 370 S. MAIN ST., YUMA, AZ 85366.
10324 | MASON CHEMICAL COMPANY, 9075 CENTRE POINTE DR., SUITE 400, WEST CHESTER, OH 45069.
11678 | MAKHTESHIM-AGAN OF NORTH AMERICA, INC., D/B/A ADAMA, 8601 SIX FORKS ROAD, SUITE 300, RALEIGH, NC 27615.
34704 | LOVELAND PRODUCTS, INC., P.O. BOX 1286, GREELEY, CO 80632-1286.
42750 | ALBAUGH, LLC, 1525 NE 36TH STREET, ANKENY, IA 50021.
47000 | CHEM-TECH, LTD., 620 LESHER PLACE, LANSING, MI 48912.
59639 | VALENT U.S.A. LLC, P.O. BOX 5075, SAN RAMON, CA 94583.
63838 | ENVIRO TECH CHEMICAL SERVICES, INC., 500 WINMOORE WAY, MODESTO, CA 95358.
66222 | MAKHTESHIM AGAN OF NORTH AMERICA, INC., 8601 SIX FORKS ROAD, SUITE 300, RALEIGH, NC 27615.
66330 | UPL NA INC./ARYSTA LIFESCIENCE NORTH AMERICA LLC, 630 FREEDOM BUSINESS CENTER, SUITE 402, KING OF PRUSSIA, PA 19406.
67690 | SEPRO CORPORATION, 11550 N. MERIDIAN STREET, SUITE 600, CARMEL, IN 46032.
70506 | UPL NA INC, P.O. BOX 12219, RESEARCH TRIANGLE PARK, NC 27709.
81880 | CANYON GROUP LLC/GOWAN COMPANY, 370 S. MAIN STREET, YUMA, AZ 85364.
81964 | CHEMSTARR, LLC., 21 HUBBLE, IRVINE, CA 92618.
83558 | ADAMA, 8601 SIX FORKS ROAD, SUITE 300, RALEIGH, NC 276715.
84229 | TIDE INTERNATIONAL, USA, INC., 21 HUBBLE, IRVINE, CA 92618.
89442 | PRIME SOURCE (ALBAUGH LLC), 1525 NE 36TH STREET, ANKENY, IA 50021.
91234 | ATTICUS, LLC, 940 NW CARY PARKWAY, SUITE 200, CARY, NC 27513.
91865 | HAWTHORNE HYDROPONICS LLC D/B/A GENERAL HYDROPONICS, 2877 GIFFEN AVE, SANTA ROSA, CA 95407.
92617 | KOP-COAT, INC. DBA KOP-COAT PROTECTION PRODUCTS, 3040 WILLIAM PITT WAY, PITTSBURGH, PA 15238.
100522 | SULLUTION AGRO, LLC, P.O. BOX 772, EAGLE, ID 83616.

III. Registrations Cancelled for Non-Payment

The Agency intends to cancel pesticide products registered under FIFRA Section 3 (7 U.S.C. 136a) or Section 24(c) (7 U.S.C. 136v(c)) as a result of the registrants' failure to pay maintenance fees for those registered products by the statutory deadline. These registrations are listed in sequence by registration number (or company number and 24(c) number) in Table 3 of Unit III. Unless the Agency receives prompt payment of maintenance fees due for the registrations listed in Table 3 of Unit III., the Agency will issue an order in the Federal Register cancelling any of the listed products listed for which inadequate or no payment has been received.

Table 3—Registrations To Be Cancelled for Non-Payment of 2025 Maintenance Fee
Registration No. | Company No. | Product name | Active ingredient
322-28 | 322 | STRYCHNINE ALKALOID NFX | Strychnine (076901/57-24-9)—(98.4%).
402-98 | 402 | NO. 1117 HILCO-X WEED KILLER | 2,4-D, 2-ethylhexyl ester (030063/1928-43-4)—(1.09%), Bromacil (012301/314-40-9)—(.61%).
402-131 | 402 | WEED & BRUSH KILLER XL-1 | Bromacil, lithium salt (012302/53404-19-6)—(11.5%).
577-572 | 577 | SEAVOYAGE 100 ANTI-FOULING PAINT | Copper 2-pyridinethio-1-oxide (088001/14915-37-8)—(4.12%), Cuprous oxide (025601/1317-39-1)—(21.05%).
961-380 | 961 | PAR EX FERTILIZER PLUS 1.5% RONSTAR | Oxadiazon (109001/19666-30-9)—(1.5%).
961-394 | 961 | LEBANON FERTILIZER PLUS CONFRONT TR BRAND HERBICIDE | 2,4-D, butoxyethyl ester (030053/1929-73-3)—(.829%), Triclopyr, butoxyethyl ester (116004/64700-56-7)—(.398%).
961-395 | 961 | CONFRONT III + FERTILIZER | 2,4-D, dimethylamine salt (030019/2008-39-1)—(1.037%), Fluroxypyr 1-methylheptyl ester (128968/81406-37-3)—(.207%), Triclopyr, triethylamine salt (116002/57213-69-1)—(.303%).
961-424 | 961 | LANDSCAPE MULCH WITH INSECTICIDE | Bifenthrin (128825/82657-04-3)—(.00016%).
961-426 | 961 | BIFENTHRIN 0.115% INSECTICIDE | Bifenthrin (128825/82657-04-3)—(.115%).
2935-407 | 2935 | GOLDEN-DEW | Sulfur (077501/7704-34-9)—(92%).
2935-523 | 2935 | SUPREME OIL 98-2 | Mineral oil—includes paraffin oil from 063503 (063502/8012-95-1)—(98%).
2935-547 | 2935 | NO MOSS 10-4-6 | Ferrous sulfate monohydrate (050507/17375-41-6)—(30.52%).
2935-557 | 2935 | OPEN RANGE G | Imazapic-ammonium (128943/115136-53-3)—(.885%).
4582-70 | 4582 | MNDA M-9011 | Neodecanamide, N-methyl- (079052/105726-67-8)—(96.3%).
7754-36 | 7754 | BUG BARRIER 100 | Diethyl toluamide (080301/134-62-3)—(98.11%).
7754-37 | 7754 | HALT DOG REPELLENT | Capsaicin (070701/404-86-4)—(.35%).
7754-38 | 7754 | HALT II DOG REPELLENT | Capsaicin (070701/404-86-4)—(1%).
7754-44 | 7754 | ARI WASP AND HORNET KILLER | Phenothrin (069005/26002-80-2)—(.125%), Tetramethrin (069003/7696-12-0)—(.2%).
8655-2 | 8655 | EASTMAN PROPIONIC ACID P-RF GRAIN PRESERVATIVE | Propionic acid (077702/79-09-4)—(99.5%).
8848-53 | 8848 | 707-B MADE ESPECIALLY FOR BEDBUGS AND FLEAS | Piperonyl butoxide (067501/51-03-6)—(.4%), Pyrethrins (069001/8003-34-7)—(.1%).
8848-65 | 8848 | BLACK JACK TOTAL RELEASE INDOOR FOGGER | Permethrin (109701/52645-53-1)—(.2%), Piperonyl butoxide (067501/51-03-6)—(1%), Tetramethrin (069003/7696-12-0)—(.2%).
8848-73 | 8848 | BLACK JACK MULTIPURPOSE 0.5% INSECTICIDE | Permethrin (109701/52645-53-1)—(.5%).
8848-20205 | 8848 | BLACK JACK BORIC ACID POWDER ROACH KILLER | Boric acid (011001/10043-35-3)—(100%).
9404-91 | 9404 | SUNNILAND LAWN FOOD WITH 0.25% PRODIAMINE | Prodiamine (110201/29091-21-2)—(.25%).
9613-20001 | 9613 | CRYSTAL AQUA CHLORINATING SOLUTION | Sodium hypochlorite (014703/7681-52-9)—(12.5%).
10250-54 | 10250 | HEMPEL'S ANTIFOULING OLYMPIC HI 76600-51110 RED | Cuprous oxide (025601/1317-39-1)—(48.79%).
10250-55 | 10250 | HEMPEL'S ANTIFOULING GLOBIC 81950 | 3(2H)-Isothiazolone, 4,5-dichloro-2-octyl- (128101/64359-81-5)—(1.86%), Cuprous oxide (025601/1317-39-1)—(37%).
10250-57 | 10250 | HEMPAGUARD X7 89900 PART A 89909 | Copper 2-pyridinethio-1-oxide (088001/14915-37-8)—(8.47%).
10250-58 | 10250 | HEMPEL'S ANTIFOULING GLOBIC 9000 | Copper 2-pyridinethio-1-oxide (088001/14915-37-8)—(2.9%), Cuprous oxide (025601/1317-39-1)—(38.62%).
10806-41 | 10806 | SURE HIT 25 INSECT KILLER | Phenothrin (069005/26002-80-2)—(.15%), Tetramethrin (069003/7696-12-0)—(.25%).
10806-97 | 10806 | CONTACT WATER-BASED INDOOR FOGGER II | MGK 264 (057001/113-48-4)—(.4%), Permethrin (109701/52645-53-1)—(.4%), Pyrethrins (069001/8003-34-7)—(.05%).
10900-72 | 10900 | 856 INSECT REPELLENT II | Diethyl toluamide (080301/134-62-3)—(25%), MGK 264 (057001/113-48-4)—(5%), MGK 326 (047201/136-45-8)—(2.5%).
11411-1 | 11411 | LESLIE'S SWIMMING POOL SUPPLIES CHLOR BRITE II | Sodium dichloro-s-triazinetrione (081404/2893-78-9)—(97%).
11411-5 | 11411 | LESLIE'S SWIMMING POOL SUPPLIES FLOATING CHLORINATOR | Trichloro-s-triazinetrione (081405/87-90-1)—(99%).
13926-7 | 13926 | DIACICLON F-7 | Piperonyl butoxide (067501/51-03-6)—(1.18%), Pyrethrins (069001/8003-34-7)—(.2%).
23566-6 | 23566 | 610 RED HATTERAS COPPER | Cuprous oxide (025601/1317-39-1)—(25%).
33427-26 | 33427 | Aceto Methoxyfenozide Technical | Methoxyfenozide (121027/161050-58-4)—(98.6%).
33427-32 | 33427 | Ethalfluralin Technical | Ethalfluralin (113101/55283-68-6)—(96%).
34859-3 | 34859 | WC-150 SANITIZER | Sodium hypochlorite (014703/7681-52-9)—(12.5%).
35056-4 | 35056 | AQUA PURE ALGAECIDE | Alkyl* dimethyl benzyl ammonium chloride *(60%C14, 30%C16, 5%C18, 5%C12) (069104/53516-76-0)—(.625%), Alkyl* dimethyl ethylbenzyl ammonium chloride *(68%C12, 32%C14) (069154/85409-23-0)—(.625%), Copper sulfate pentahydrate (024401/7758-99-8)—(28.029%).
36029-1 | 36029 | WILCO GOPHER GETTER TYPE 1 BAIT | Strychnine (076901/57-24-9)—(.5%).
36029-7 | 36029 | WILCO GOPHER GETTER AG BAIT | Strychnine (076901/57-24-9)—(.5%).
36631-1 | 36631 | CRUDE PYRETHRUM EXTRACT | Pyrethrins (069001/8003-34-7)—(30.1%).
36638-25 | 36638 | NOMATE PBW MEC | 7,11-Hexadecadien-1-ol, acetate, (E, Z)- (114101/53042-79-8)—(10%), 7,11-Hexadecadien-1-ol, acetate, (Z, Z)- (114102/52207-99-5)—(10%).
36638-43 | 36638 | NOMATE LBAM SPIRAL | (E)-11-Tetradecen-1-ol acetate (129019/33189-72-9)—(7.74%), (E, E)-9,11-Tetradecadien-1-ol acetate (128000/54664-98-1)—(.32%).
42182-20 | 42182 | ULTRA FRESH NM-100 | Triclosan (054901/3380-34-5)—(99%).
43497-1 | 43497 | CHLOR 64 | Sodium hypochlorite (014703/7681-52-9)—(6.4%).
44446-48 | 44446 | BUG BAN PLUS | Diethyl toluamide (080301/134-62-3)—(22.56%), MGK 264 (057001/113-48-4)—(5%), MGK 326 (047201/136-45-8)—(2.5%).
45600-20 | 45600 | INSECTA LIQUID | Permethrin (109701/52645-53-1)—(2%).
45728-7 | 45728 | FERBAM GRANUFLO | Ferbam (034801/14484-64-1)—(76%).
45728-21 | 45728 | THIRAM GRANUFLO AGRICULTURAL FUNGICIDE | Thiram (079801/137-26-8)—(75%).
45728-28 | 45728 | FLOWSAN SEED TREATMENT | Thiram (079801/137-26-8)—(44.04%).
46813-69 | 46813 | FLYING INSECT KILLER I | MGK 264 (057001/113-48-4)—(3.146%), Piperonyl butoxide (067501/51-03-6)—(1.95%), Pyrethrins (069001/8003-34-7)—(.974%).
47265-4 | 47265 | SHIN-ETSU RACEMIC DISPARLURE | cis-7,8-Epoxy-2-methyloctadecane (114301/29804-22-6)—(89.2%).
50600-13 | 50600 | SB-Chlorinate III | Sodium hypochlorite (014703/7681-52-9)—(12.5%).
52991-23 | 52991 | BEDOUKIAN L-CARVONE | L-Carvone (079500/6485-40-1)—(99.5%).
52991-25 | 52991 | BEDOUKIAN LINALOOL TECHNICAL | Linalool (128838/78-70-6)—(94.5%).
52991-26 | 52991 | BEDOUKIAN CITRAL TECHNICAL | Citral (040510/5392-40-5)—(98%).
52991-38 | 52991 | Triple B Repellent Ready To Use Spray | Cyclopentaneacetic acid, 3-oxo-2-pentyl-, propyl ester (028000/158474-72-7)—(1.875%), Delta-dodecalactone (031134/713-95-1)—(2.5%), Methyl-dihydrojasmonate (031135/54562-27-5)—(.625%).
52991-40 | 52991 | Triple B Repellent Concentrate | Cyclopentaneacetic acid, 3-oxo-2-pentyl-, propyl ester (028000/158474-72-7)—(3.75%), Delta-dodecalactone (031134/713-95-1)—(5%), Methyl-dihydrojasmonate (031135/54562-27-5)—(1.25%).
52991-41 | 52991 | BEDOUKIAN PROPYL DIHYDRO JASMONATE TECHNICAL | Cyclopentaneacetic acid, 3-oxo-2-pentyl-, propyl ester (028000/158474-72-7)—(97%).
52991-42 | 52991 | Triple B Professional Repellent Concentrate | Cyclopentaneacetic acid, 3-oxo-2-pentyl-, propyl ester (028000/158474-72-7)—(17.3%), Delta-dodecalactone (031134/713-95-1)—(23.08%), Methyl-dihydrojasmonate (031135/54562-27-5)—(5.77%).
52991-43 | 52991 | Bedoukian Delta-Dodecalactone Technical | Delta-dodecalactone (031134/713-95-1)—(99.7%).
53053-21 | 53053 | ENVIROSYSTEMS PROSHIELD 5000 | 1-Octadecanaminium, N, N-dimethyl-N-(3-(trimethoxysilyl) propyl)-, chloride (107401/27668-52-6)—(5%).
53053-22 | 53053 | ENVIROSYSTEMS BIOSHIELD 150 | 1-Octadecanaminium, N, N-dimethyl-N-(3-(trimethoxysilyl) propyl)-, chloride (107401/27668-52-6)—(1.5%).
53053-23 | 53053 | ENVIROSYSTEMS BIOSHIELD 50 | 1-Octadecanaminium, N, N-dimethyl-N-(3-(trimethoxysilyl) propyl)-, chloride (107401/27668-52-6)—(.5%).
53053-24 | 53053 | ENVIROSYSTEMS BIOSHIELD 75 | 1-Octadecanaminium, N, N-dimethyl-N-(3-(trimethoxysilyl) propyl)-, chloride (107401/27668-52-6)—(.75%).
53053-25 | 53053 | ENVIROSYSTEMS BIOSHIELD 7200 | 1-Octadecanaminium, N, N-dimethyl-N-(3-(trimethoxysilyl) propyl)-, chloride (107401/27668-52-6)—(71.2%).
53053-28 | 53053 | ENVIROSYSTEMS PROSHIELD 5000 D | 1-Octadecanaminium, N, N-dimethyl-N-(3-(trimethoxysilyl) propyl)-, chloride (107401/27668-52-6)—(5%).
53735-10 | 53735 | SPA BROMINE DISINFECTANT | 2,4-Imidazolidinedione, 1-bromo-3-chloro-5,5-dimethyl- (006315/16079-88-2)—(96%).
53575-35 | 53575 | ISOMATE CM RING | CheckMate Technical Pheromone (129028/33956-49-9)—(55.05%), Lauryl alcohol (001509/112-53-8)—(31.22%), Myristyl alcohol (001510/112-72-1)—(6.3%).
55487-20001 | 55487 | B'S POOL SUPPLY SODIUM HYPOCHLORITE SOLUTION (12.5%) | Sodium hypochlorite (014703/7681-52-9)—(12.5%).
56336-6 | 56336 | CHECKMATE (R) TPW | (E)-4-Tridecen-l-yl acetate (121902/72269-48-8)—(2.84%), (Z)-4-Tridecen-1-yl acetate (121901/65954-19-0)—(.09%).
56336-39 | 56336 | CHECKMATE APM-F | (Z)-11-Hexadecenal (120001/53939-28-9)—(9.96%).
56336-40 | 56336 | CHECKMATE WPCM-F | (E, Z)-3,13-Octadecadien-1-ol (129117/66410-28-4)—(14.02%), (Z, Z)-3,13-Octadecadien-1-ol (117241/66410-24-0)—(3.55%).
56336-45 | 56336 | PUFFER APM | (Z)-11-Hexadecenal (120001/53939-28-9)—(12.24%).
56336-58 | 56336 | CHECKMATE LBAM DISPENSER | (E)-11-Tetradecen-1-ol acetate (129019/33189-72-9)—(8.36%), (E, E)-9,11-Tetradecadien-1-ol acetate (128000/54664-98-1)—(.44%).
56336-59 | 56336 | CHECKMATE LBAM-F | (E)-11-Tetradecen-1-ol acetate (129019/33189-72-9)—(16.33%), (E, E)-9,11-Tetradecadien-1-ol acetate (128000/54664-98-1)—(.86%).
56336-63 | 56336 | CHECKMATE SF-XL | (E)-8-Dodecen-1-yl acetate (128907/38363-29-0)—(.77%), (Z)-8-Dodecen-1-yl acetate (128906/28079-04-1)—(12%), 5-Decen-1-ol, (E)- (078038/56578-18-8)—(1.73%), 5-Decen-1-ol, acetate, (E)- (117703/38421-90-8)—(8.34%), Dodecen-1-ol, (Z)- (128908/40642-40-8)—(.13%).
56336-77 | 56336 | CheckMate LRz I Flowable | (Z)-11-Tetradecenyl acetate (128980/20711-10-8)—(23%).
56783-1 | 56783 | DAMMINIX | Permethrin (109701/52645-53-1)—(7.4%).
56783-2 | 56783 | MITE ARREST | Permethrin (109701/52645-53-1)—(7.4%.
56872-2 | 56872 | WOW PLUS | Glutens, corn (100137/66071-96-3)—(78%).
56890-3 | 56890 | CHLORINATING SKIMMER STICKS | Trichloro-s-triazinetrione (081405/87-90-1)—(99%).
56890-4 | 56890 | 1 Chlorinating Tablets | Trichloro-s-triazinetrione (081405/87-90-1)—(99%).
58501-2 | 58501 | WEEDEX DANDELION STICK | 2,4-D, dimethylamine salt (030019/2008-39-1)—(4.5%), Triclopyr, triethylamine salt (116002/57213-69-1)—(2%).
61428-1 | 61428 | WATER PRESERVER CONCENTRATE | Sodium hypochlorite (014703/7681-52-9)—(5.25%).
61671-1 | 61671 | MENTHOL | Menthol (051601/1490-04-6)—(99.94%).
61671-2 | 61671 | PARA-MOTH | Paradichlorobenzene (061501/106-46-7)—(99.94%).
61842-10 | 61842 | FLAGSTICK | Fosetyl-Al (123301/39148-24-8)—(70%).
61842-15 | 61842 | M-97-009 KAOLIN | Kaolin clay (100104/1332-58-7)—(100%).
61842-20 | 61842 | LAYBY PRO HERBICIDE | Diuron (035505/330-54-1)—(20%), Linuron (035506/330-55-2)—(20.3%).
61842-33 | 61842 | SEVIN BRAND 85 SPRAYABLE CARBARYL INSECTICIDE | Carbaryl (056801/63-25-2)—(85%).
61842-34 | 61842 | SEVIN 80 SOLUPAK | Carbaryl (056801/63-25-2)—(80%).
61842-39 | 61842 | SEVIN BRAND 80 WSP CARBARYL INSECTICIDE | Carbaryl (056801/63-25-2)—(80%).
61842-53 | 61842 | METHOMYL COMPOSITION | Methomyl (090301/16752-77-5)—(92%).
62445-1 | 62445 | SEA-BORN ROWBUST | Cytokinin (as kinetin) (116801/525-79-1)—(.01%).
62899-2 | 62899 | Crop Cure 2a | Sodium diacetate (044008/126-96-5)—(90%).
63802-1 | 63802 | CHLORINE | Chlorine (020501/7782-50-5)—(99.5%).
64137-20 | 64137 | BIO-SAVE 1000 BIOLOGICAL FUNGICIDE | Pseudomonas syringae, strain ESC 10 (006441/68583-32-4)—(83%).
64137-24 | 64137 | BIO-SAVE 10 NT BIOLOGICAL FUNGICIDE | Pseudomonas syringae, strain ESC 10 (006441/68583-32-4)—(28.61%).
64137-25 | 64137 | BIO-SAVE 11 NT BIOLOGICAL FUNGICIDE | Pseudomonas syringae, strain ESC-11 (006451/)—(28.61%).
64137-27 | 64137 | Jet Granular 527 | Sodium percarbonate (128860/15630-89-4)—(34.44%), Tetraacetylethylenediamine (004115/10543-57-4)—(28.02%).
64321-10 | 64321 | BIO KILL EXTRA GT INSECTICIDE | Prallethrin (128722/23031-36-9)—(1%), lambda-Cyhalothrin (128897/91465-08-6)—(9%).
64321-11 | 64321 | BIO KILL EXTRA GT READY-TO-USE | Prallethrin (128722/23031-36-9)—(.0075%), lambda-Cyhalothrin (128897/91465-08-6)—(.0675%).
65146-2 | 65146 | TRICHLOROMELAMINE | Trichloromelamine (077101/7673-09-8)—(98%).
65169-1 | 65169 | CHLORO GLASS SANITIZER | Trichloromelamine (077101/7673-09-8)—(18.7%).
68250-1 | 68250 | LIQUIDATOR ELECTRONIC IONIZATION SYSTEM | Copper as elemental (022501/7440-50-8)—(70%), Silver (072501/7440-22-4)—(30%).
68660-3 | 68660 | PROXITANE M-15 TECHNICAL PEROXYACETIC ACID | Ethaneperoxoic acid (063201/79-21-0)—(15%), Hydrogen peroxide (000595/7722-84-1)—(14%).
68959-12 | 68959 | DECON-CYCLE Plus | 2-Benzyl-4-chlorophenol (062201/120-32-1)—(10.91%), o-Phenylphenol (NO INERT USE) (064103/90-43-7)—(11.05%).
69117-2 | 69117 | GREYHOUND INSECTICIDE | Abamectin (122804/71751-41-2)—(2%).
69117-8 | 69117 | POINTER INSECTICIDE S | Imidacloprid (129099/138261-41-3)—(5%).
69204-1 | 69204 | TK-10 | Prometon (080804/1610-18-0)—(3.75%).
69261-3 | 69261 | DIASOURCE DIATOMACEOUS EARTH GRAIN STORAGE INSECTICIDE | Silicon dioxide (072605/7631-86-9)—(88.25%).
69261-4 | 69261 | PURE DE | Silicon dioxide (072605/7631-86-9)—(88.25%).
69261-5 | 69261 | DE-SOURCE DIATOMACEOUS EARTH FOR MANUFACTURING USE ONLY | Silicon dioxide (072605/7631-86-9)—(88.25%).
69274-1 | 69274 | DEER NO NO DEER REPELLENT | Soap (079009/61789-31-9)—(85%).
69403-1 | 69403 | SANIGUARD | 1-Decanaminium, N-decyl-N, N-dimethyl-, chloride (069149/7173-51-5)—(.096%).
69553-4 | 69553 | SPEXIT | Spodoptera exigua multinucleopolyhedrovirus, strain BV-0004 (129345/)—(.6%).
69553-8 | 69553 | LOOPEX | Autographa californica multiple nucleopolyhedrovirus strain FV#11 (128123/)—(.1%).
69814-4 | 69814 | GERMICIDE AQUEOUS | Alkyl* dimethyl benzyl ammonium chloride *(50%C14, 40%C12, 10%C16) (069105/68424-85-1)—(.13%).
70127-5 | 70127 | TAEGRO | Bacillus subtilis var. amyloliquefaciens strain FZB24 (006480/)—(10.4%).
70127-6 | 70127 | TAEGRO TECHNICAL | Bacillus subtilis var. amyloliquefaciens strain FZB24 (006480/)—(79.9%).
70127-11 | 70127 | TAEGRO TECHNICAL 2 | Bacillus subtilis var. amyloliquefaciens strain FZB24 (006480/)—(79.9%).
70127-12 | 70127 | TAEGRO 2 | Bacillus subtilis var. amyloliquefaciens strain FZB24 (006480/)—(10.4%).
70553-2 | 70553 | PERMETHRIN TECHNICAL | Permethrin (109701/52645-53-1)—(95.5%).
72961-1 | 72961 | BOROWOOD TECHNICAL | Boron sodium oxide (B8Na2O13), tetrahydrate (12280-03-4) (011103/12280-03-4)—(99.98%).
73479-2 | 73479 | PUFFER CM | CheckMate Technical Pheromone (129028/33956-49-9)—(18.05%).
73479-22 | 73479 | CheckMate Puffer NOW-O Pro | (Z, Z)-11,13-Hexadecadienal (000711/71317-73-2)—(.49%).
73479-8 | 73479 | PUFFER OFM | (E)-8-Dodecen-1-yl acetate (128907/38363-29-0)—(.75%), (Z)-8-Dodecen-1-yl acetate (128906/28079-04-1)—(11.63%), Dodecen-1-ol, (Z)- (128908/40642-40-8)—(.12%).
74468-11 | 74468 | PRE-AMINE 65 WDG | Prodiamine (110201/29091-21-2)—(65%).
74468-14 | 74468 | AZOXYSTROBIN TECHNICAL | Azoxystrobin (128810/131860-33-8)—(99%).
74468-15 | 74468 | 2,4-D Amine 4 | 2,4-D, dimethylamine salt (030019/2008-39-1)—(47.2%).
74468-16 | 74468 | ProActive Azoxystrobin Technical | Azoxystrobin (128810/131860-33-8)—(98.5%).
74530-4 | 74530 | HELOSATE PRO | Glyphosate, isopropylamine salt (103601/38641-94-0)—(41%).
74530-14 | 74530 | HELOSATE 62% MUP | Glyphosate, isopropylamine salt (103601/38641-94-0)—(62%).
74530-43 | 74530 | HELOSATE PLUS ADVANCED | Glyphosate, isopropylamine salt (103601/38641-94-0)—(41%).
74530-56 | 74530 | HELOSATE 5 HERBICIDE | Glyphosate, isopropylamine salt (103601/38641-94-0)—(50.2%).
74564-2 | 74564 | KLOR 300 CHLORINE BASED SANITIZER | Sodium hypochlorite (014703/7681-52-9)—(6%).
74779-1 | 74779 | ARACINATE TREE INJECTION | Abamectin (122804/71751-41-2)—(2%).
74779-10 | 74779 | RTSA 14.3% PROPICONAZOLE | Propiconazole (122101/60207-90-1)—(14.3%).
74986-4 | 74986 | SELECTROCIDE 2L500 | Sodium chlorite (020502/7758-19-2)—(30.5%).
74986-5 | 74986 | SELECTROCIDE 5G | Sodium chlorite (020502/7758-19-2)—(30.5%).
75257-1 | 75257 | FREEDOM 45 SPOT ON FOR DOGS | Permethrin (109701/52645-53-1)—(45%).
75337-1 | 75337 | HORMOGEL | Indole-3-butyric acid (046701/133-32-4)—(.2%).
75844-10 | 75844 | Liberty 55 Plus IGR Spot-On for Cats | Etofenprox (128965/80844-07-1)—(55%), Pyriproxyfen (129032/95737-68-1)—(2.2%).
79894-6 | 79894 | INSECT-O-CLEAN | D-Limonene (179701/5989-27-5)—(5.8%).
81045-2 | 81045 | ELEXA-4 | Chitosan (128930/9012-76-4)—(4%).
81899-5 | 81899 | AZAPURE (AZADIRACHTIN TECHNICAL) | Azadirachtin (121701/108168-76-9)—(40%).
82012-3 | 82012 | ANTIMICROBIAL COPPER ALLOYS—GROUP III | Copper as elemental (022501/7440-50-8)—(82.6%).
82012-5 | 82012 | ANTIMICROBIAL COPPER ALLOYS GROUP V | Copper as elemental (022501/7440-50-8)—(66.5%).
82024-1 | 82024 | CREOSOTE-SOLUTION | Coal tar creosote (025004/8001-58-9)—(97.5%).
82024-2 | 82024 | CREOSOTE OIL | Coal tar creosote (025004/8001-58-9)—(98.5%).
82024-3 | 82024 | CREOSOTE PETROLEUM SOLUTION | Coal tar creosote (025004/8001-58-9)—(75%).
82484-1 | 82484 | DRO-5000 | Chlorine dioxide (020503/10049-04-4)—(5%).
82691-1 | 82691 | STAY CLEAN ADDITIVE A | Zinc oxide (088502/1314-13-2)—(100%).
83558-22 | 83558 | ORYZALIN TECHNICAL | Oryzalin (104201/19044-88-3)—(95.6%).
83558-24 | 83558 | ORYZALIN 4MC | Oryzalin (104201/19044-88-3)—(41%).
84059-11 | 84059 | MBI-005 TGAI | Killed, non-viable Streptomyces acidiscabies strain RL-110T cells and spent fermentation media (016328/)—(100%).
84059-12 | 84059 | MBI-005 EP | Killed, non-viable Streptomyces acidiscabies strain RL-110T cells and spent fermentation media (016328/)—(17%).
84059-26 | 84059 | MBI-601 EP | Muscodor albus strain SA-13 and spent and unspent fermentation media (006666/)—(100%).
84198-1 | 84198 | PEROXY HDOX | Hydrogen peroxide (000595/7722-84-1)—(6.7%).
85353-1 | 85353 | CUVERRO I | Copper as elemental (022501/7440-50-8)—(66.5%).
85353-2 | 85353 | CUVERRO II | Copper as elemental (022501/7440-50-8)—(73%).
85353-3 | 85353 | CUVERRO III | Copper as elemental (022501/7440-50-8)—(82.6%).
85353-5 | 85353 | CUVERRO V | Copper as elemental (022501/7440-50-8)—(91.3%).
85353-6 | 85353 | CUVERRO VI | Copper as elemental (022501/7440-50-8)—(62%).
85678-66 | 85678 | Acifluorfen 44% MUP | Sodium acifluorfen (114402/62476-59-9)—(44%).
85724-1 | 85724 | AKOTOP 85 WG | Thiophanate-methyl (102001/23564-05-8)—(85%).
85724-10 | 85724 | AKOFOS 48 EC | Chlorpyrifos (059101/2921-88-2)—(42.5%).
85724-11 | 85724 | OVNI XL | Glyphosate (417300/1071-83-6)—(30%), Oxyfluorfen (111601/42874-03-3)—(3.75%).
85724-12 | 85724 | MERJAN 50WP | Captan (081301/133-06-2)—(48.93%).
85797-1 | 85797 | Handheld Electrochemical Decon Apparatus | Sodium bromide (013907/7647-15-6)—(45.2%), Sodium chlorite (020502/7758-19-2)—(51.4%).
86027-1 | 86027 | SODIUM HYPOCHLORITE 10.8% | Sodium hypochlorite (014703/7681-52-9)—(10.8%).
86027-2 | 86027 | SODIUM HYPOCHLORITE 10.8% MUP | Sodium hypochlorite (014703/7681-52-9)—(10.8%).
86027-3 | 86027 | CHLORINE | Chlorine (020501/7782-50-5)—(99.9%).
87394-6 | 87394 | Ninja Neem | Cold Pressed Neem Oil (025006/8002-65-1)—(100%).
87845-2 | 87845 | NASA HERBICIDE | Glyphosate (417300/1071-83-6)—(41%).
87978-6 | 87978 | SURTIVO | Chrysodeixis includens Nucleopolyhedrovirus, isolate #460 (129344/)—(17.1%), Helicoverpa zea Nucleopolyhedrovirus strain ABA-NPV-U (107200/)—(17.1%).
88080-2 | 88080 | BIRD FREE | Polybutene (011402/9003-29-6)—(70%).
88373-4 | 88373 | STERI-VET | Ethaneperoxoic acid (063201/79-21-0)—(5.9%), Hydrogen peroxide (000595/7722-84-1)—(27.3%).
88373-5 | 88373 | DISIN-VET PLUS | 1-Decanaminium, N, N-dimethyl-N-octyl-, chloride (069165/32426-11-2)—(9.18%), 1-Decanaminium, N-decyl-N, N-dimethyl-, chloride (069149/7173-51-5)—(4.59%), 1-Octanaminium, N,N-dimethyl-N-octyl-, chloride (069166/5538-94-3)—(4.59%), Alkyl* dimethyl benzyl ammonium chloride *(50%C14, 40%C12, 10%C16) (069105/68424-85-1)—(12.24%).
88746-9 | 88746 | Flask Insecticide | lambda-Cyhalothrin (128897/91465-08-6)—(9.7%).
88746-10 | 88746 | Larvur Insect Bait | Hydramethylnon (118401/67485-29-4)—(1%), Imidacloprid (129099/138261-41-3)—(.5%).
88746-11 | 88746 | Permetron | Permethrin (109701/52645-53-1)—(36.8%).
88746-12 | 88746 | NOVACIDE INSECTICIDE | Etofenprox (128965/80844-07-1)—(1%), Piperonyl butoxide (067501/51-03-6)—(1.5%), Pyrethrins (069001/8003-34-7)—(.15%), S-Methoprene (105402/65733-16-6)—(.09%), Tetramethrin (069003/7696-12-0)—(.25%).
88867-1 | 88867 | PROTECTOR 0.5G | Imidacloprid (129099/138261-41-3)—(.5%).
88867-2 | 88867 | PROTECTOR 2F | Imidacloprid (129099/138261-41-3)—(21.4%).
89771-1 | 89771 | SODIUM HYPOXHLORITE (BLEACH) 19% | Sodium hypochlorite (014703/7681-52-9)—(16.32%).
89850-5 | 89850 | SEMIOS CM PLUS | CheckMate Technical Pheromone (129028/33956-49-9)—(18.05%).
89850-6 | 89850 | SEMIOS OFM PLUS | (E)-8-Dodecen-1-yl acetate (128907/38363-29-0)—(.96%), (Z)-8-Dodecen-1-yl acetate (128906/28079-04-1)—(10.59%), Dodecen-1-ol, (Z)- (128908/40642-40-8)—(.15%).
89850-7 | 89850 | SEMIOS OBLR/PLR PLUS | (Z)-11-Tetradecenyl acetate (128980/20711-10-8)—(14.78%).
89850-16 | 89850 | SEMIOS Z-11-TETRADECENYL ACETATE TECHNICAL PHEROMONE | (Z)-11-Tetradecenyl acetate (128980/20711-10-8)—(96.51%).
90057-1 | 90057 | SHP IMIDACLOPRID TECHNICAL | Imidacloprid (129099/138261-41-3)—(99.16%)
90344-1 | 90344 | POLYLAURIN 120 | Glycerol monolaurate (011290/27215-38-9)—(1.4%), Propylene glycol monolaurate (011288/27194-74-7)—(11.3%).
90748-1 | 90748 | SPECTRAKILL—RTU | Alkyl* dimethyl benzyl ammonium chloride *(50%C14, 40%C12, 10%C16) (069105/68424-85-1)—(.117%), Hydrogen peroxide (000595/7722-84-1)—(5.36%).
90748-5 | 90748 | SpectraKill (TM) Force Part A | Alkyl* dimethyl benzyl ammonium chloride *(50%C14, 40%C12, 10%C16) (069105/68424-85-1)—(3.2%).
90748-6 | 90748 | SPECTRAKILL FORCE PART B | Hydrogen peroxide (000595/7722-84-1)—(7.95%).
90856-1 | 90856 | MONOFOIL MF-05 | 1-Octadecanaminium, N, N-dimethyl-N-[3-(trihydroxysilyl) propyl], chloride (107403/199111-50-7)—(3.6%).
90856-2 | 90856 | MONOFOIL M | 1-Octadecanaminium, N, N-dimethyl-N-[3-(trihydroxysilyl) propyl], chloride (107403/199111-50-7)—(1.3%).
90856-4 | 90856 | MONOFOIL D | 1-Octadecanaminium, N, N-dimethyl-N-(3-(trimethoxysilyl) propyl)-, chloride (107401/27668-52-6)—(.13%), Alkyl* dimethyl benzyl ammonium chloride *(60%C14, 30%C16, 5%C18, 5%C12) (069104/53516-76-0)—(.25%), Alkyl* dimethyl ethylbenzyl ammonium chloride *(68%C12, 32%C14) (069154/85409-23-0)—(.25%).
90924-19 | 90924 | PERMACARE PC-12 | 2,2-Dibromo-3-nitrilopropionamide (101801/10222-01-2)—(5%).
91145-4 | 91145 | CATTLE SHIELD SUPER CONCENTRATE SYNERGIZED PERMETHRIN POUR-ON | Permethrin (109701/52645-53-1)—(7.4%), Piperonyl butoxide (067501/51-03-6)—(7.4%).
91145-5 | 91145 | CATTLE SHIELD PERMETHRIN 1% SYNERGIZED POUR-ON | Permethrin (109701/52645-53-1)—(1%), Piperonyl butoxide (067501/51-03-6)—(1%).
91186-1 | 91186 | MT-SORB MIN-DRI | Copper sulfate pentahydrate (024401/7758-99-8)—(3.2%).
91300-1 | 91300 | SHIELDTEC PLUS FOR DOGS | Permethrin (109701/52645-53-1)—(45%), Pyriproxyfen (129032/95737-68-1)—(5%).
91300-2 | 91300 | ADVENTURE PLUS FOR DOGS | Imidacloprid (129099/138261-41-3)—(9.1%), Pyriproxyfen (129032/95737-68-1)—(.46%).
91300-5 | 91300 | PROMIKA ZOGUARD PLUS FOR DOGS | Fipronil (129121/120068-37-3)—(9.8%), S-Methoprene (105402/65733-16-6)—(8.8%).
91300-6 | 91300 | PROMIKA ZOGUARD PLUS FOR CATS | Fipronil (129121/120068-37-3)—(9.8%), S-Methoprene (105402/65733-16-6)—(11.8%).
91300-8 | 91300 | P111.02 for Cats | Fipronil (129121/120068-37-3)—(9.7%).
91300-9 | 91300 | P111.03 FOR DOGS | Fipronil (129121/120068-37-3)—(9.7%).
91386-1 | 91386 | SALT CARTRIDGE FOR GISELLE | Sodium chloride (013905/7647-14-5)—(99.86%).
91399-2 | 91399 | BIOTAB 7 | Sodium chlorite (020502/7758-19-2)—(20%).
91413-2 | 91413 | NOUVEX N950-9010 MASTER BATCH | Pyridine, 4-ethenyl-, polymer with alpha-(2-methyl-1-oxo-2-propen-1-yl)-omega-methyloxypoly(oxo-1,2-ethanediyl), compd. with 1-bromohexane (012309/1471991-40-8)—(30%).
92044-2 | 92044 | CHLOROTHALONIL 720SC | Chlorothalonil (081901/1897-45-6)—(54%).
92044-3 | 92044 | CHLOROTHALONIL 82.5 WDG | Chlorothalonil (081901/1897-45-6)—(82.5%).
92188-5 | 92188 | VISMAX INJECTION | Flg22-Bt Peptide (005001/)—(.0048%).
92583-1 | 92583 | Shift 3.9% Ethephon | Ethephon (099801/16672-87-0)—(3.9%).
92587-1 | 92587 | SURFION ADDITIVE | Cupric oxide (042401/1317-38-0)—(3.19%).
92708-1 | 92708 | Organipeel | Citric acid (021801/77-92-9)—(.66%).
92983-5 | 92983 | PROSTIM AA | Cytokinin (as kinetin) (116801/525-79-1)—(.016%), Indole-3-butyric acid (046701/133-32-4)—(.094%).
94196-3 | 94196 | MY SHIELD HOSPITAL DISINFECTANT | 1-Decanaminium, N,N-dimethyl-N-octyl-, chloride (069165/32426-11-2)—(.144%), 1-Decanaminium, N-decyl-N,N-dimethyl-, chloride (069149/7173-51-5)—(.0864%), 1-Octadecanaminium, N,N-dimethyl-N-(3-(trimethoxysilyl)propyl)-, chloride (107401/27668-52-6)—(.792%), 1-Octanaminium, N,N-dimethyl-N-octyl-, chloride (069166/5538-94-3)—(.0576%), Alkyl* dimethyl benzyl ammonium chloride *(50%C14, 40%C12, 10%C16) (069105/68424-85-1)—(.192%), Guanidine, N,N&quot;&apos;-1,6-hexanediylbis-, homopolymer, hydrochloride (128863/87500-57-0)—(.25%).
94196-4 | 94196 | MY SHIELD BROAD SPECTRUM DISINFECTANT | 1-Decanaminium, N,N-dimethyl-N-octyl-, chloride (069165/32426-11-2)—(.3%), 1-Decanaminium, N-decyl-N,N-dimethyl-, chloride (069149/7173-51-5)—(.18%), 1-Octadecanaminium, N,N-dimethyl-N-(3-(trimethoxysilyl)propyl)-, chloride (107401/27668-52-6)—(.792%), 1-Octanaminium, N,N-dimethyl-N-octyl-, chloride (069166/5538-94-3)—(.12%), Alkyl* dimethyl benzyl ammonium chloride *(50%C14, 40%C12, 10%C16) (069105/68424-85-1)—(.4%), Poly(iminoimidocarbonyliminoimidocarbonyliminohexamethylene) hydrochloride (111801/32289-58-0)—(.5%).
94499-1 | 94499 | JG5049 | Octhilinone (099901/26530-20-1)—(11.22%).
95337-1 | 95337 | Volcano | Citric acid (021801/77-92-9)—(1.5%).
95535-2 | 95535 | VodaGuard O Algaecide | Sodium percarbonate (128860/15630-89-4)—(82.45%).
95550-1 | 95550 | PESTX PEST CONTROL | Boric acid (011001/10043-35-3)—(15.1%).
95566-1 | 95566 | SEMASPORE BAIT | Nosema locustae (117001/)—(.05%).
96048-1 | 96048 | Sanitized Pro | Hypochlorous Acid (129054/7790-92-3)—(.025%).
96274-1 | 96274 | Sanera | Hypochlorous Acid (129054/7790-92-3)—(.06%).
96503-1 | 96503 | OmniSan Anolyte | Hypochlorous Acid (129054/7790-92-3)—(.046%).
96671-1 | 96671 | Zachary Sulfur Dioxide | Sulfur dioxide (077601/7446-09-5)—(100%).
96727-1 | 96727 | Longhorn | Cyanamide (014002/420-04-2)—(50%).
97711-1 | 97711 | Crown Disinfecting Wipes | 1-Decanaminium, N-decyl-N, N-dimethyl-, chloride (069149/7173-51-5)—(.13%), Alkyl* dimethyl benzyl ammonium chloride *(50%C14, 40%C12, 10%C16) (069105/68424-85-1)—(.12%).
98343-1 | 98343 | Disinfecting Floor Wipes | Alkyl* dimethyl benzyl ammonium chloride *(50%C14, 40%C12, 10%C16) (069105/68424-85-1)—(.46%).
98433-1 | 98433 | GermStryke 250 | Hypochlorous Acid (129054/7790-92-3)—(.025%).
98788-1 | 98788 | JUYUAN Disinfecting Wipes | 1-Decanaminium, N-decyl-N, N-dimethyl-, chloride (069149/7173-51-5)—(.16%), Alkyl* dimethyl benzyl ammonium chloride *(50%C14, 40%C12, 10%C16) (069105/68424-85-1)—(.41%).
99407-1 | 99407 | Envirotab | Sodium chlorite (020502/7758-19-2)—(24%).
99503-5 | 99503 | Enviroquat 2D 50e | 1-Decanaminium, N-decyl-N, N-dimethyl-, chloride (069149/7173-51-5)—(50%).
99764-1 | 99764 | Everyday Disinfectant | Hypochlorous Acid (129054/7790-92-3)—(.025%).
100091-1 | 100091 | WaterWise Concentrate Sanitizer Cleaner | Citric acid (021801/77-92-9)—(46.75%).
100368-3 | 100368 | LOW-TEMP SANITIZER | Sodium hypochlorite (014703/7681-52-9)—(5.25%).
100894-1 | 100894 | Prune Master Pruner Treatment | Thymol (080402/89-83-8)—(.051%).
101607-1 | 101607 | Bye Bye Skeeter | Picaridin (070705/119515-38-7)—(20%).
102280-1 | 102280 | SITOFEX Plant Growth Regulator | Forchlorfenuron (128819/68157-60-8)—(.8%).
102563-1 | 102563 | CLETHODIM 2 EC HERBICIDE | Clethodim (121011/99129-21-2)—(26.4%).
102563-2 | 102563 | REBOUND FUNGICIDE | Azoxystrobin (128810/131860-33-8)—(11%), Tebuconazole (128997/107534-96-3)—(18.35%).
AZ231005 | 70299 | SANIDATE 12.0 | Ethaneperoxoic acid (063201/79-21-0)—(12%), Hydrogen Peroxide (000595/7722-84-1)—(18.5%).
FL220005 | 100305 | Remedium TI | Oxytetracycline hydrochloride (006308/2058-46-0)—(94.5%).
FL960004 | 45728 | FERBAM GRANUFLO | Ferbam (034801/14484-64-1)—(76%).
MN230002 | 87865 | SPIN-AID HERBICIDE | Phenmedipham (098701/13684-63-4)—(15.9%).
NC130005 | 45728 | METAM CLR 42% | Metam-sodium (039003/137-42-8)—(42%).
ND230001 | 87865 | SPIN-AID HERBICIDE | Phenmedipham (098701/13684-63-4)—(15.9%).
OR210011 | 91810 | ROMEO | Cerevisane (cell walls of Saccharomyces cerevisiae strain LAS117) (100055)—(94.1%).
VA130004 | 45728 | METAM CLR 42% | Metam-sodium (039003/137-42-8)—(42%).
VA130005 | 45728 | METAM KLR 54% | Metam-sodium (039003/137-42-8)—(54%).

Table 4 of Unit III. includes the names and addresses of record for all registrants of the products in Table 3 of Unit III., in sequence by EPA company number. This number corresponds to the first part of the EPA registration numbers of the products listed in this unit.

Table 4—Registrants of Registrations Cancelled for Non-Response/Payment of 2025 Maintenance Fee
Company No. | Company name & address
577 | THE SHERWIN-WILLIAMS COMPANY, 101 PROSPECT AVE, CLEVELAND, OH 44115-1075.
961 | LEBANON SEABOARD CORPORATION, 1600 EAST CUMBERLAND STREET, LEBANON, PA 17042.
2724 | WELLMARK INTERNATIONAL, 1501 E WOODFIELD ROAD, SUITE 200 WEST, SCHAUMBURG, IL 60173.
2935 | WILBUR-ELLIS COMPANY LLC, 2903 S CEDAR AVE., FRESNO, CA 93725.
4582 | COLGATE-PALMOLIVE COMPANY, 300 PARK AVENUE, NEW YORK, NY 10022.
8655 | EASTMAN CHEMICAL COMPANY, PO BOX 431, KINGSPORT, TN 37662.
9386 | KEMIRA WATER SOLUTIONS, INC., 200 GALLERIA PARKWAY, SUITE 1500, ATLANTA, GA 30339.
9404 | VOGEL SEED & FERTILIZER, LLC/FLORIDA DIVISION, 1891 SPRING VALLEY ROAD, JACKSON, WI 53037.
10088 | ATHEA LABORATORIES INC, PO BOX 240014, MILWAUKEE, WI 53224.
10900 | SHERWIN-WILLIAMS CONSUMER BRANDS GROUP, 101 PROSPECT AVE, CLEVELAND, OH 44115-1075.
11411 | LPM MANUFACTURING, INC., 2005 E INDIAN SCHOOL ROAD, PHOENIX, AZ 85016.
23566 | INTERNATIONAL PAINT LLC, 6001 ANTOINE DRIVE, HOUSTON, TX 77091.
33427 | ACETO US, L.L.C., D/B/A/ACTYLIS, 4 TRI HARBOR COURT, PORT WASHINGTON, NY 110504661.
34688 | NOURYON SURFACE CHEMISTRY LLC, 100 MATSONFORD ROAD, BUILDING 5, RADNOR, PA 19087.
36029 | WILCO DISTRIBUTORS, INC., 6832 NORTH EL MIRAGE RD., GLENDALE, AZ 85307.
36638 | SCENTRY BIOLOGICALS, INC., 610 CENTRAL AVENUE, BILLINGS, MT 59102.
42182 | MICROBAN PRODUCTS COMPANY, 11400 VANSTORY DRIVE, HUNTERSVILLE, NC 28078.
43497 | PROACTIVE SOLUTIONS USA, LLC, 301 BRIDGE STREET, GREEN BAY, WI 54303.
44446 | QUESTSPECIALTY CORPORATION, PO BOX 624, BRENHAM, TX 77834.
45600 | INSECTA MARKETING, INC., 29008 BEAUCLAIRE DRIVE, TAVARES, FL 32778.
45728 | TAMINCO US LLC, 200 S WILCOX DR., KINGSPORT, TN 376605147.
46149 | M&R DURANGO, INC, PO BOX 886, BAYFIELD, CO 81122.
46813 | PLZ CORP., 8001 KEELE STREET, VAUGHAN, ONTARIO L4K 1Y8, -.
47265 | BOLAN CONSULTING/SHIN-ETSU CHEMICAL CO., LTD., 575 VIEWRIDGE DRIVE, ANGWIN, CA 94508.
52991 | BEDOUKIAN RESEARCH INC., 6 COMMERCE DRIVE, DANBURY, CT 06810.
53575 | PACIFIC BIOCONTROL CORPORATION, 1831 NW KINGS BLVD, CORVALLIS, OR 97330.
53735 | KING TECHNOLOGY INC., 6000 CLEARWATER DR., MINNETONKA, MN 55343.
56228 | U.S. DEPARTMENT OF AGRICULTURE, ANIMAL AND PLANT HEALTH INSPECTION SERVICE, 4700 RIVER ROAD, UNIT 149, RIVERDALE, MD 20737.
56336 | SUTERRA LLC, 20950 NORTHEAST TALUS PLACE, BEND, OR 97701.
56890 | DOHENY'S, LLC, 10411 80TH AVE., PLEASANT PRAIRIE, WI 53158-5811.
61842 | TESSENDERLO KERLEY, INC., 2910 N 44TH ST., SUITE 100, PHOENIX, AZ 85018-7272.
62531 | INEOS KOH, INC, 3509 MIDDLE ROAD, ASHTABULA, OH 440050858.
62899 | FORMAFEED, INC., PO BOX 9, STEWART, MN 55385.
64137 | DANSTAR FERMENT AG/LALLEMAND PLANT CARE, APO BOX 990, HAILEY, ID 83333.
64321 | REGISTRATIONS BY DESIGN, INC./JESMOND HOLDING AG, PO BOX 1019, SALEM, VA 241531019.
65146 | IOFINA CHEMICAL, INC., 1025 MARY LAIDLEY DRIVE, COVINGTON, KY 41017.
65169 | IOFINA CHEMICAL, INC., 1025 MARY LAIDLEY DRIVE, COVINGTON, KY 41017.
67979 | SYNGENTA SEEDS, LLC—FIELD CROPS—NAFTA, 9 DAVIS DRIVE, RESEARCH TRIANGLE PARK, NC 27709.
68660 | SOLVAY CHEMICALS, INC., 1130 INDEPENDENCE PARKWAY, SOUTH, LA PORTE, TX 77571.
68959 | VELTEK ASSOCIATES INC., 15 LEE BOULEVARD, MALVERN, PA 193551234.
69117 | ARBORSYSTEMS, INC., 10168 L STREET, OMAHA, NE 68127.
69407 | ANIMAL DERMATOLOGY LABORATORIES, PO BOX 19097, IRVINE, CA 92623-9097.
69553 | ANDERMATT USA CORPORATION, 107 GILBRETH PARKWAY, MULLICA HILL, NJ 08062.
70299 | BIOSAFE SYSTEMS, LLC, 22 MEADOW STREET, EAST HARTFORD, CT 06108.
72961 | SCL ITALIA S.P.A./EXPONENT, INC., 1150 CONN. AVE. NW, SUITE 1100, WASHINGTON, DC 20036.
73479 | SUTERRA LLC, 20950 NORTHEAST TALUS PLACE, BEND, OR 97701.
74468 | PROACTIVE, LLC, 10529 HERITAGE BAY BLVD., NAPLES, FL 34120.
74530 | HELM AGRO US, INC., 401 E JACKSON ST., SUITE 1600, TAMPA, FL 33602.
74779 | RAINBOW TREECARE SCIENTIFIC ADVANCEMENTS, 11571 K-TEL DRIVE, MINNETONKA, MN 55343.
75257 | MANNA PRO PRODUCTS, LLC, 707 SPIRIT 40 PARK DR., SUITE 150, ST. LOUIS, MO 63005.
75844 | ANDREW M. MARTIN CO., NV INC., 707 SPIRIT 40 PARK DR., SUITE 150, ST. LOUIS, MO 63005.
81899 | SOLUNEEM, INC., 7049 REDWOOD BLVD., SUITE 201C, NOVATO, CA 94947.
82012 | COPPER DEVELOPMENT ASSOCIATION (CDA), 260 MADISON AVENUE, NEW YORK, NY 10016-2401.
84059 | PRO FARM GROUP, INC., 1530 DREW AVE., DAVIS, CA 95618.
85353 | WIELAND NORTH AMERICA, INC., 305 LEWIS & CLARK BOULEVARD, EAST ALTON, IL 62024.
85678 | REDEAGLE INTERNATIONAL LLC, 5143 S LAKELAND DRIVE, SUITE 4, LAKELAND, FL 33813-2589.
85724 | AAKO B.V./LANDIS INTERNATIONAL, INC., 3185 MADISON HIGHWAY, VALDOSTA, GA 31603-5126.
86064 | UNITED TURF ALLIANCE, LLC., PO BOX 554, MCFARLAND, WI 53558.
87394 | DYNA-GRO, 2775 GIANT ROAD, RICHMOND, CA 94806.
87845 | AGROMARKETING CO, INC, 314 ESTATE COURT, MIDLAND, ON L4R 5H2.
87865 | BELCHIM CROP PROTECTION US CORPORATION, 225 WILMINGTON WEST CHESTER PIKE, SUITE 200, CHADDS FORD, PA 19317.
87978 | AGBITECH PTY LTD/FORSTER & ASSOC. CONSULTING, LLC, PO BOX 4097, GREENVILLE, DE 19807.
88373 | INNOVACYN, INC., 3546 N RIVERSIDE AVE., RIALTO, CA 92377.
88746 | SOLUTIONS PEST & LAWN, 2739 PASADENA BLVD, PASADENA, TX 77502.
89850 | SEMIOSBIO TECHNOLOGIES INC., 22 EAST 5TH AVENUE, SUITE 300, VANCOUVER, BC V5T1G8.
90057 | MANNA PRO PRODUCTS, LLC, 707 SPIRIT 40 PARK DR., SUITE 150, ST. LOUIS, MO 63005.
90924 | CHAMPIONX, LLC, 11177 S STADIUM DRIVE, SUGAR LAND, TX 77478.
91300 | PROMIKA, LLC D/B/A OF MANNA PRO PRODUCTS, 707 SPIRIT 40 PARK DR., SUITE 150, ST. LOUIS, MO 63005.
91810 | LESAFFRE YEAST CORPORATION, 7475 W MAIN STREET, MILWAUKEE, WI 53214.
92044 | CAC CHEMICAL AMERICAS LLC, 1178 BROADWAY, 3RD FLOOR #3766, NEW YORK, NY 10001.
92188 | ELEMENTAL ENZYMES AG AND TURF LLC., 1685 GALT INDUSTRIAL BLVD., SAINT LOUIS, MO 63132.
92708 | APEEL SCIENCES, 71 SOUTH LOS CARNEROS ROAD, GOLETA, CA 93117.
92983 | SUNTTON INTERNATIONAL INC, 9127 HIGHWAY 431 SOUTH, SUITE C., OWENS CROSS ROADS, AL 35763.
93756 | PUROX BRANDS CORP, 5801 E 10TH AVE, SUITE 108, HIALEAH, FL 33013.
95337 | GURUNANDA, LLC, 6645 CABALLERO BLV., BUENA PARK, CA 90620.
95535 | AMOVODAGUARD INC., 314 ESTATE COURT, MIDLAND, ON L4R5H2.
96727 | HERITAGE CROP SCIENCE, LLC, 726 W BARSTOW AVENUE, SUITE 108, FRESNO, CA 93704.
97711 | CROWN (YANGZHOU) HEALTH & BEAUTY CO.,/SUPERIOR ELITE SERVICES LLC, L11906 BRITTMOORE PARK DRIVE, HOUSTON, TX 77041.
98343 | HANGZHOU JUST CLEAN TECHNOLOGY CO., LTD/REACH24H CONSULTING, 11921 FREEDOM DRIVE, SUITE 550, RESTON, VA 20190.
99503 | ENVIRONMENTAL FLUIDS, INC., 4241 N WINFIELD SCOTT PLAZA, SUITE 101, SCOTTSDALE, AZ 85821.
99764 | DEAR PLANET LABS, INC., 169 WEST ORANGETHROPE AVENUE, PLACENTIA, CA 92870.
100091 | GREENOLOGY PRODUCTS, LLC, 7020 CYNROW BLVD, RALEIGH, NC 27615.
100368 | PYROCK CHEMICAL, 2110 RANCH ROAD 620 S, UNIT 342712, LAKEWAY, TX 78734.
100894 | BGREEN, INC., 72877 DINAH SHORE DRIVE, SUITE 103, RANCHO MIRAGE, CA 92270.
102280 | ALZCHEM LLC, 11390 OLD ROSWELL ROAD, SUITE 124, ALPHARETTA, X 30009.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products which are currently in the United States, and which were packaged, labeled, and released for shipment prior to the effective date of the cancellation action. Upon cancellation of the products identified in Table 1 of Unit III., EPA anticipates allowing registrants to sell and distribute existing stocks of these products until January 15, 2026, or the date that the cancellation notice is published in the Federal Register, whichever is later. Thereafter, registrants will be prohibited from selling or distributing the pesticides identified in Table 1 of Unit III., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: August 1, 2025.
Jennifer Saunders,
Acting Director, Registration Division, Office of Pesticide Programs.

[FR Doc. 2025-14810 Filed 8-4-25; 8:45 am]

BILLING CODE 6560-50-P